DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the

firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[January 1, 2008 through January 31, 2008]
Firm | Address | Date accepted for filing | Products
Master Solutions, Inc | PO Box 4444, 20 Wolfbridge Road, Carlisle, PA 17013 | 1/2/2008 | Material handling systems; automatic truck loading systems; and specialty trailer manufacturing.
Advanced Cast Products, Inc | 18700 Mill Street, Meadville, PA 16335 | 1/3/2008 | Manufactures ductile iron parts for a variety of industries.
The William L. Bonnell Company, Inc | 25 Bonnel Street, Newman, GA 30263 | 1/3/2008
John J. Steuby Company | 6002 N. Lindbergh, Hazelwood, MO 63042 | 1/4/2008
Century Specialty Windows, Inc | #1 Flair Road, US Highway 72, Lumberton, NC 28358 | 1/7/2008 | The company manufactures and markets decorative specialty windows, clear and decorative glass inserts and window operating hardware to domestic markets.
TGZ Acquisition Company, LLC dba JACE | 2 Pin Oak Lane, Suite 200, Cherry Hill, NJ 08003 | 1/8/2008 | Manufactures, sells, and rents Continuous Passive Motion (CPM) and electrotherapy devices.
Boyce Highlands, Inc | 14 Whitney Road, Concord, NH 03301 | 1/8/2008 | Custom-made solid wooden moldings, both finished & unfinished.
Steel Parts Manufacturing | 801 Berryman Pike, Tipton, IN 46072 | 1/8/2008 | Parts of clutches and similar stamped steel transmission components for the automotive industry.
Sierra Midwest, Inc | 3100 S. Santa Fe Street, Chanute, KS 66720 | 1/10/2008 | Single, double and multi-sided printed circuit boards.
AFC Stamping & Production, Inc | 4900 Webster St, Dayton, OH 45414 | 1/14/2008 | Metal stampings for the motor vehicle, appliance, medical device and other industries.
Century Industries, Inc | 2300 E 145th St, Little Rock, AR 72206-5809 | 1/14/2008 | Folding attic stairways.
AFC Stamping & Production, Inc | 4900 Webster St, Dayton, OH 45414 | 1/14/2008 | Metal stampings for the motor vehicle, appliance, medical device and other industries.
Helton Inc | 8700 Manchester Highway, Morrison, TN 37357 | 1/16/2008 | The company produces, markets and distributes thermoformed plastic products and cast urethanes, mainly to OEM manufactures for parts and final assemblies.
Kitco, Inc | 520 N Enterprise Drive, Warrensburg, MO 64093 | 1/17/2008 | Fiberglass parts.
Schuetz Tool & Die, Inc | 807 Utah St, Hiawatha, KS 66434 | 1/18/2008 | Tools, Dies, and Parts.
LuSys Laboratories | 3716 Camel View Road, San Diego, CA 92130 | 1/24/2008 | One-Step Diagnostic Rapid Test—Manufacturing process: Manufacture test strip into plastic cassette, seal into a foil pouch, place 25 pouches into a commercial box, and ship to customer.
Parmelee Industries, Inc. dba U.S. Safety | 8101 Lenexa Drive, Lenexa, KS 66214 | 1/31/2008 | Eye and face protective gear.
Vinylex Corporation | 2636 Byington-Solway Road, Knoxville, TN 37931 | 1/31/2008 | Manufactures thermoplastics: Piping, siding, profile tubing (raw materials: PVC & EVA plastics).

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: January 11, 2008.
William P. Kittredge,
Program Officer for TAA.

[FR Doc. 08-570 Filed 2-11-08; 8:45 am]

BILLING CODE 3510-24-P